DEPARTMENT OF HEALTH AND HUMAN SERVICES

Centers for Disease Control and Prevention

[60Day-01-43]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project

National Telephone Survey of Urban Mosquito Control Programs—New—National Center for Infectious Disease (NCID), Centers for Disease Control and Prevention (CDC). West Nile virus is a mosquito-borne virus that is native to the eastern hemisphere, where it recently caused large epidemics of human disease in eastern Europe, Russia, and the Middle East. In 1999, West Nile virus first appeared in the United States when it caused an epidemic of mosquito-borne encephalitis and meningitis in the greater New York City metropolitan area. During 1999-2000, 83 persons (mostly senior citizens) with West Nile viral disease and 9 fatalities were reported in New York, New Jersey, and Connecticut. The apparent primary vector to humans was the house mosquito, Culex pipiens, which occurs in virtually all urban areas of the United States. This species is also one of the principal vectors of St. Louis encephalitis virus, historically the most important cause of epidemic viral encephalitis in the United States, and a close relative of West Nile virus. Based on the detection of West Nile virus in birds and mosquitoes, this virus has now spread to a 12-state region of the eastern United States, extending from New Hampshire to North Carolina, and from the Atlantic coast to western Pennsylvania. It is likely that West Nile virus will continue to expand its geographic range within the United States, mainly through distribution by infected birds. Thus, many cities in the United States are at risk for West Nile virus epidemics, especially those without mosquito control programs that target Culex mosquitoes. No systematically collected information on such programs is currently available. Currently in the United States, mosquito control is largely a local issue funded by state and local tax dollars.

In the proposed survey, mosquito control program managers will be identified and interviewed by telephone to estimate the number of U. S. cities of at least 100,000 population that have functional programs for controlling urban Culex mosquitoes, by geographic region. The survey will be conducted twice, once at baseline and again two years later, to assess national and regional trends in establishing such control programs. This information will serve as a resource for the Centers for Disease Control and Prevention, state and local health departments, policymakers, and funding agencies. The total cost to the respondents is $0.

Respondents | Number of respondents | Number of responses/respondent | Average Burden/response (in hours) | Total burden in hours
Initial Telephone interview | 175 | 1 | 10/60 | 29
Follow-up Telephone Interview with Initial Respondents | 175 | 1 | 10/60 | 29
Total |  |  |  | 58

Dated: May 21, 2001.
Nancy Cheal,
Acting Associate Director for Policy, Planning and Evaluation, Centers for Disease Control and Prevention.

[FR Doc. 01-13464 Filed 5-29-01; 8:45 am]

BILLING CODE 4163-18-P